DEPARTMENT OF TRANSPORTATION

Federal Aviation Administration

14 CFR Part 71

[Docket No. FAA-2020-0496; Airspace Docket No. 20-AEA-1]

RIN 2120-AA66

Amendment of VOR Federal Airways V-31, V-36, V-84, V-252, and V-510 in the Vicinity of Buffalo, NY

AGENCY: Federal Aviation Administration (FAA), DOT.

ACTION: Final rule

SUMMARY: This action amends VHF Omnidirectional Range (VOR) Federal airways V-31, V-36, V-84, V-252, and V-510. This action is necessary due to the planned decommissioning of the VOR portion of the Buffalo, NY, VOR/Distance Measuring Equipment (VOR/DME) navigational aid, which provides navigational guidance for these airways. The Buffalo VOR is being decommissioned as part of the FAA's VOR Minimum Operational Network (MON) program.

The VOR Federal airways V-2, V-14, V-33, and V-164 modifications proposed in the notice of proposed rulemaking have been accomplished by separate rules subsequently published. As a result, the V-2, V-14, V-33 and V-164 modifications are removed from this rule.

DATES: Effective date 0901 UTC, January 27, 2022. The Director of the Federal Register approves this incorporation by reference action under 1 CFR part 51, subject to the annual revision of FAA Order 7400.11 and publication of conforming amendments.

ADDRESSES: FAA JO Order 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA JO Order 7400.00F is also available for inspection at the National Archives and Records Administration (NARA). For information on the availability of FAA JO Order 7400.11F at NARA, email: fedreg.legal@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the airway structure as necessary to preserve the safe and efficient flow of air traffic within the National Airspace System.

History

The FAA published a notice of proposed rulemaking (NPRM) for Docket No. FAA-2020-0496, in the Federal Register (85 FR 34144; June 3, 2020), amending V-2, V-14, V-31, V-33, V-36, V-84, V-164, V-252, and V-510. The proposed amendment actions were due to the planned decommissioning of the VOR portion of the Buffalo VOR/DME navigational aid. Interested parties were invited to participate in this rulemaking effort by submitting written comments on the proposal. No comments were received.

Subsequent to the NPRM, the FAA published a rule for Docket No. FAA-2020-0049 in the Federal Register (85 FR 41184; July 9, 2020), amending V-33 by removing the airway segment overlying the Bradford, PA, VOR/DME between the Keating, PA, VORTAC and the Buffalo, NY, VOR/DME; and amending V-164 by removing the airway segment overlying the Wellsville, NY, VORTAC between the Buffalo, NY, VOR/DME and the Stonyfork, PA, VOR/DME. The airway amendments were effective September 10, 2020. As a result, the V-33 and V-164 amendments in this rule are no longer necessary and removed.

Additionally, subsequent to the NPRM, the FAA published a rule for Docket No. FAA-2020-1146 in the Federal Register (86 FR 19129; April 13, 2021), amending V-2 by removing the airway segment overlying the Rochester, NY, VOR/DME between the Buffalo, NY, VOR/DME and the Gardner, MA, VOR/DME; and amending V-14 by removing the airway segment overlying the Geneseo, NY, VOR/DME between the Buffalo, NY, VOR/DME and the Norwich, CT, VOR/DME. The airways amendments were effective June 17, 2021. As a result, the V-2 and V-14 amendments in this rule are no longer necessary and removed.

VOR Federal airways are published in paragraph 6010(a) of FAA JO Order 7400.11F dated August 10, 2021, and effective September 15, 2020, which is incorporated by reference in 14 CFR 71.1. The airways listed in this document will be published subsequently in FAA JO Order 7400.11.

Availability and Summary of Documents for Incorporation by Reference

This document amends FAA JO Order 7400.11F, Airspace Designations and Reporting Points, dated August 10, 2021, and effective September 15, 2021. FAA JO Order 7400.11F is publicly available as listed in the ADDRESSES section of this document. FAA JO Order 7400.11F lists Class A, B, C, D, and E airspace areas, air traffic service routes, and reporting points.

The Rule

This action amends 14 CFR part 71 by amending VOR Federal airways V-31, V-36, V-84, V-252, and V-510. The planned decommissioning of the VOR portion of the Buffalo, NY, VOR/DME has made this action necessary.

The VOR Federal airway amendment actions are described below.

V-31: V-31 extends between the Patuxent, MD, VORTAC and the Nottingham, MD, VORTAC; and between the Baltimore, MD, VORTAC and the intersection of the Rochester, NY, VOR/DME 279° and Buffalo, NY, VOR/DME 023° radials (AIRCO fix). This action amends the AIRCO fix in the airway description to describe it as the intersection of the existing Rochester VOR/DME 279° radial and the Jamestown, NY, VOR/DME 024° radial. Additionally, the Patuxent, MD, VORTAC airway point references are corrected from “Patuxent River” to “Patuxent.” The unaffected portions of the existing airway remain as charted.

V-36: V-36 extends between the Thunder Bay, ON, Canada, VOR/DME and the intersection of the Wiarton, ON, Canada, VOR/DME 150° and Toronto, ON, Canada, VOR/DME 304° radials; and between the Buffalo, NY, VOR/DME and the intersection of the LaGuardia, NY, VOR/DME 310° and Stillwater, NJ, VOR/DME 043° radials. The airspace within Canada is excluded. This action removes the airway segment between the Buffalo, NY, VOR/DME and the Elmira, NY, VOR/DME. The unaffected portions of the existing airway remain as charted.

V-84: V-84 extends between the Northbrook, IL, VOR/DME and the Pullman, MI, VOR/DME; and between the Buffalo, NY, VOR/DME and the Syracuse, NY, VORTAC. This action removes the airway segment between the Buffalo, NY, VOR/DME and the Geneseo, NY, VOR/DME. The unaffected portions of the existing airway remain as charted.

V-252: V-252 extends between the intersection of the Buffalo, NY, VOR/DME 023° and Geneseo, NY, VOR/DME 305° radials (AIRCO fix) and the Dupont, DE, VORTAC. This action amends the AIRCO fix in the airway description to describe it as the intersection of the Jamestown, NY, VOR/DME 024° radial and the existing Geneseo, NY, VOR/DME 305° radial. The unaffected portions of the existing airway remain as charted.

V-510: V-510 extends between the Dickinson, ND, VORTAC and the Dells, WI, VORTAC; and between the Buffalo, NY, VOR/DME and the Rochester, NY, VOR/DME. This action removes the airway segment between the Buffalo, NY, VOR/DME and the Rochester, NY, VOR/DME. The unaffected portions of the existing airway remain as charted.

All radials contained in the VOR Federal airway descriptions listed below are stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending VOR Federal airways V-31, V-36, V-84, V-252, and V-510, due to the planned decommissioning of the VOR portion of the Buffalo VOR/DME navigational aid, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA JO Order 7400.11F, Airspace Designations and Reporting Points, dated August 10, 2021, and effective September 15, 2021, is amended as follows:

Paragraph 6010(a) Domestic VOR Federal Airways.

* * * * *

V-31 [Amended]

From Patuxent, MD; INT Patuxent 338° and Nottingham, MD, 128° radials; to Nottingham. From Baltimore, MD; INT Baltimore 004° and Harrisburg, PA, 147° radials; Harrisburg; Selinsgrove, PA; Williamsport, PA; Elmira, NY; INT Elmira 002° and Rochester, NY, 120° radials; Rochester; to INT Rochester 279° and Jamestown, NY, 024° radials.

* * * * *

V-36 [Amended]

From Thunder Bay, ON, Canada; Wawa, ON, Canada; Sault Ste Marie, MI; Elliot Lake, ON, Canada; Wiarton, ON, Canada; to INT Wiarton 150° and Toronto, ON, Canada, 304° radials. From Elmira, NY; INT Elmira 110° and LaGuardia, NY, 310° radials; to INT LaGuardia 310° and Stillwater, NJ, 043° radials. The airspace within Canada is excluded.

* * * * *

V-84 [Amended]

From Northbrook, IL; to Pullman, MI. From Geneseo, NY; INT Geneseo 091° and Syracuse, NY, 240° radials; to Syracuse.

* * * * *

V-252 [Amended]

From INT Jamestown, NY, 024° and Geneseo, NY, 305° radials; Geneseo; Binghamton, NY; Huguenot, NY; INT Huguenot 196° and Robbinsville, NJ, 351° radials; Robbinsville; to Dupont, DE.

* * * * *

V-510 [Amended]

From Dickinson, ND; INT Dickinson 078° and Bismarck, ND, 290° radials; 28 miles 38 MSL, Bismarck; INT Bismarck 067° and Jamestown, ND, 279° radials; 14 miles, 65 miles 34 MSL, Jamestown; Fargo, ND; INT Fargo 110° and Alexandria, MN, 321° radials; Alexandria; INT Alexandria 110° and Gopher, MN, 321° radials; Gopher; INT Gopher 109° and Nodine, MN, 328° radials; Nodine; to Dells, WI.

* * * * *

Issued in Washington, DC, on November 3, 2021.
Michael R. Beckles,
Acting Manager, Rules and Regulations Group.

[FR Doc. 2021-24559 Filed 11-10-21; 8:45 am]

BILLING CODE 4910-13-P